DEPARTMENT OF TRANSPORTATION

Federal Aviation Administration

14 CFR Part 71

[Docket No. FAA-2015-1345; Airspace Docket No. 14-AWP-13]

RIN 2120-AA66

Establishment of an Air Traffic Service (ATS) Route; Western United States

AGENCY: Federal Aviation Administration (FAA), DOT.

ACTION: Final rule.

SUMMARY: This action establishes one low altitude Area Navigation (RNAV) T-route in the western United States. The route establishes a transition from the San Diego area to points east. This route promotes operational efficiencies for users and provides connectivity to current and proposed RNAV en route and terminal procedures.

DATES: Effective date 0901 UTC, March 2, 2017. The Director of the Federal Register approves this incorporation by reference action under title 1 Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Kenneth Ready, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the north central United States to maintain the efficient flow of air traffic.

History

On June 5, 2015, the FAA published in the Federal Register a notice of proposed rulemaking (NPRM) (80 FR 32074), Docket No. FAA-2015-1345, to establish 13 RNAV Q-routes and one T-route originating in Los Angeles Air Route Traffic Control Center's (ARTCC) airspace. Interested parties were invited to participate in this rulemaking effort by submitting written comments on the proposal. No comments were received.

A final rule was published in the Federal Register February 4, 2016 (81 FR 5898), Docket No. FAA-2015-1345, addressing the 13 RNAV Q-routes. The T-Route was not addressed in that final rule because it required more coordination due to it being part of the Southern California Metroplex Environmental Assessment.

The development of new RNAV Standard Instrument Departure (SID) and Standard Terminal Arrival (STAR) routes requires incorporation of this T-Route into the National Airspace System route structure in order to maximize the benefits of increased safety in high volume enroute sectors.

The Los Angeles Air Route Traffic Control Center (ARTCC) currently does not have routes that join the Performance Based Navigation (PBN) arrival and departure procedures. The existing conventional jet route structure does not serve the new SID/STAR designs. Routes made up of ground based navigational aids are not capable of delivering aircraft onto the RNAV based arrival and departure procedures in an efficient manner. Developing these predictable and repeatable flight paths through a complex area confined by restricted areas will improve throughput and safety for Los Angeles ARTCC.

This first phase of a two-phase project will align a network of Q-Routes with the new SIDs and STARs. The Q-Route structure is projected to optimize descent/climb profiles to/from several airports in southern California and create segregated arrival/departure paths to reduce airspace complexity. The T-Route in this final rule de-conflicts current airway traffic from southern California to de-conflict with the newly established Q-Routes and provides a route east bound along mountainous terrain and Mexico's border.

Low altitude United States RNAV routes are published in paragraph 6011 of FAA Order 7400.11A dated August 3, 2016, and effective September 15, 2016, which is incorporated by reference in 14 CFR 71.1. The low altitude United States RNAV T-route listed in this document will be subsequently published in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

Differences From the NPRM

A previous rule published in the Federal Register of February 4, 2016 (81 FR 5898), Docket No. 2015-1345, had several changes from the NPRM which were addressed in the February 4, 2016, final rule. This rule establishes RNAV T-route T-326, which was proposed in the NPRM but was not finalized in the rule. The route required additional coordination within the Southern California Metroplex Environmental Assessment with no changes made to the proposed route. The environmental study has been finalized with no comments addressing the establishment of T-326.

The Rule

The FAA is amending Title 14, Code of Federal Regulations (14 CFR) part 71 by establishing U.S. RNAV T-route T-326 beginning at the Mission Bay, CA, VORTAC (MZB) to the Imperial, CA, VORTAC (IPL) to transition from the San Diego area to the east. The route will be used to de-conflict airway traffic from arrivals and departures at San Diego International Airport. The route enhances safety through de-confliction of airway traffic and provides routing in limited airspace between mountainous terrain and Mexico's border

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action establishing one low altitude RNAV T-route in the western U.S. to function as a transition from the San Diego area to points east, qualifies for categorical exclusion from full environmental impact review under the National Environmental Policy Act in accordance with FAA Order 1050.1F, Environmental Impacts: Policies and Procedures, Paragraph 5-6.5a for Rulemaking actions that designate or modify classes of airspace areas, airways, routes, and reporting points (see 14 CFR part 71, Designation of Class A, B, C, D, and E Airspace Areas; Air Traffic Service Routes; and Reporting Points). This action is not expected to cause any potentially significant environmental impacts. In accordance with FAAO 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6011 United States Area Navigation Routes.

* * * * *

T-326 Mission Bay, CA to Imperial, CA (New)
Mission Bay, CA (MZB) | VORTAC | (Lat. 32°46′55.93″ N., long. 117°13′31.49″ W.)
HAILE, CA | WP | (Lat. 32°46′45.70″ N., long. 117°00′51.71″ W.)
BLLYJ, CA | WP | (Lat. 32°49′38.06″ N., long. 116°45′56.45″ W.)
STAXS, CA | WP | (Lat. 32°52′16.70″ N., long. 116°32′17.69″ W.)
GILYY, CA | WP | (Lat. 32°52′12.12″ N., long. 116°21′05.24″ W.)
KUMBA, CA | WP | (Lat. 32°45′43.18″ N., long. 116°03′13.37″ W.)
Imperial, CA (IPL) | VORTAC | (Lat. 32°44′55.92″ N., long. 115°30′30.90″ W.)

Issued in Washington, DC, on December 21, 2016.
Leslie M. Swann,
Acting Manager, Airspace Policy Group.

[FR Doc. 2016-31901 Filed 1-4-17; 8:45 am]

BILLING CODE 4910-13-P